DEPARTMENT OF AGRICULTURE

Rural Utilities Service

Earth Resources, Inc.; Notice of Intent To Hold a Public Scoping Meeting and Prepare an Environmental Assessment

AGENCY: Rural Utilities Service, USDA.

ACTION: Notice of intent to hold a public scoping meeting and prepare an Environmental Assessment (EA).

SUMMARY: Rural Utilities Service (RUS), an agency which administers the U.S. Department of Agriculture's Rural Development Utilities Programs. RUS intends to hold a public scoping meeting and prepare an Environmental Assessment (EA) in connection with possible impacts related to a project proposed by Earth Resources Inc. (ERI), with headquarters in Carnesville, Georgia.

The proposal consists of the construction of 20-megawatt power generating station utilizing chicken litter and woody biomass as fuel. The proposed generating station would be located in Franklin County, Georgia. No new transmission lines are proposed in connection with the proposed generating station. ERI is requesting RUS provide financing for the proposal.

DATES: RUS will conduct one scoping meeting in an open house format, seeking the input of the public and other interested parties. The meeting will be held from 5 p.m. until 7 p.m., September 11, 2006, in Carnesville, Georgia at the Franklin County Justice Center, 7085 Highway 145.

A Public Information Document, prepared by ERI, will be presented at the public scoping meeting. The Report will be available for public review at RUS' address provided in this notice, at RUS' Web site: http://www.usda.gov/rus/water/ees/ea.htm, and at the following locations:

Franklin County Courthouse, 9592 Lavonia Road, Carnesville, GA 30521.

Lavonia Carnegie Library, 28 Hartwell Road, Lavonia, GA.

Royston Public Library, 684 Franklin Springs Street, Royston, Georgia.

FOR FURTHER INFORMATION CONTACT: Stephanie Strength, Environmental Protection Specialist, USDA Rural Development, Utilities Programs, Engineering and Environmental Staff, 1400 Independence Avenue, SW., Stop 1571, Washington, DC 20250-1571, telephone (202) 720-0468. Mrs. Strength's e-mail address is stephanie.strength@wdc.usda.gov.

SUPPLEMENTARY INFORMATION: Earth Resources Inc., proposes to construct a 20-megawatt power generating station utilizing chicken litter and woody biomass as fuel. The proposed generating station would be located in Franklin County, Georgia. No new transmission lines are proposed in connection with the proposed generating station. The proposed location is a 139-acre property that is partially cleared in Franklin County near State Route 198 and Interstate 85 (see map). It is anticipated that the facilities would be in service in 2007.

Government agencies, private organizations, and the public are invited to participate in the planning and analysis of the proposal.

Representatives from RUS and Earth Resources Inc., will be available at the scoping meeting to discuss RUS' environmental review process, describe the project, the purpose and need for the proposal, and to discuss the scope of environmental issues to be considered, answer questions, and accept comments. Comments regarding the proposal may be submitted (orally or in writing) at the public scoping meeting or in writing for receipt no later than October 11, 2006, to RUS at the address provided in this notice.

Earth Resources Inc., will prepare an environmental analysis to be submitted to RUS for review from information provided in the Public Information Document and input that may be provided by government agencies, private organizations and the public. RUS will use the environmental analysis to determine the significance of the impacts of the proposal and may adopt it as its Environmental Assessment for the proposal. RUS' Environmental Assessment will be available for review and comment for 30 days.

Should RUS determine, based on the Environmental Assessment that the impacts of the construction and operation of the proposal would not have a significant environmental impact, it will prepare a finding of no significant impact. Public notification of a finding of no significant impact will be published in the Federal Register and in newspapers with a circulation in the project area.

Any final action by RUS related to the proposal will be subject to, and contingent upon, compliance with environmental review requirements as prescribed by RUS' environmental policies and procedures.

Dated: August 21, 2006.
Mark S. Plank,
Director, Engineering and Environmental Staff, USDA/Rural Development/Utilities Programs.

[FR Doc. E6-14101 Filed 8-24-06; 8:45 am]

BILLING CODE 3410-15-P